DEPARTMENT OF LABOR

Employment and Training Administration

[TA-W-52,828]

AK Steel Corp., Rockport Works, Shipping, Receiving and Packaging Department, Rockport, IN; Dismissal of Application for Reconsideration

Pursuant to 29 CFR 90.18(C) an application for administrative reconsideration was filed with the Director of the Division of Trade Adjustment Assistance for workers at AK Steel Corporation, Rockport Works, Shipping, Receiving and Packaging Department, Rockport, Indiana. The application contained no new substantial information which would bear importantly on the Department's determination. Therefore, dismissal of the application was issued.

TA-W-52,828; AK Steel Corporation, Rockport Works, Shipping, Receiving and Packaging Department, Rockport, Indiana (December 4, 2003)

Signed at Washington, DC this 18th day of December 2003.
Timothy Sullivan,
Director, Division of Trade Adjustment Assistance.

[FR Doc. 03-31858 Filed 12-24-03; 8:45 am]

BILLING CODE 4510-30-P